DEPARTMENT OF COMMERCE

National Oceanic and Atmospheric Administration

Agency Information Collection Activities; Submission to the Office of Management and Budget (OMB) for Review and Approval; Comment Request; Northeast Multispecies Amendment 16

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before February 15, 2022.

ADDRESSES: Interested persons are invited to submit written comments to Adrienne Thomas, NOAA PRA Officer, at Adrienne.thomas@noaa.gov. Please reference OMB Control Number 0648-0605 in the subject line of your comments. Do not submit Confidential Business Information or otherwise sensitive or protected information.

FOR FURTHER INFORMATION CONTACT: Requests for additional information or specific questions related to collection activities should be directed to Claire Fitz-Gerald, Fishery Policy Analyst, Greater Atlantic Regional Fisheries Office, (978) 281-9255, and Claire.Fitz-Gerald@noaa.gov.

SUPPLEMENTARY INFORMATION:

I. Abstract

This request is for the revision and extension of a current information collection. Under the Magnuson-Stevens Fishery Conservation and Management Act (MSA), the Secretary of Commerce has the responsibility for the conservation and management of marine fishery resources. We, National Oceanic and Atmospheric Administration's (NOAA) National Marine Fisheries Service (NMFS), and the Regional Fishery Management Councils are delegated the majority of this responsibility. The New England Fishery Management Council (Council) develops management plans for fishery resources in New England.

In 2010, we implemented a new suite of regulations for the Northeast (NE) multispecies fishery through Amendment 16 to the NE Multispecies Fishery Management Plan (FMP). This action updated status determination criteria for all regulated NE multispecies or ocean pout stocks; adopted rebuilding programs for NE multispecies (groundfish) stocks newly classified as being overfished and subject to overfishing; revised management measures, including significant revisions to the sector management measures (established under Amendment 13) necessary to end overfishing, rebuild overfished regulated NE multispecies and ocean pout stocks, and mitigate the adverse economic impacts of increased effort controls. It also implemented new requirements under Amendment 16 for establishing acceptable biological catch, annual catch limits (ACLs), and accountability measures for each stock managed under the FMP, pursuant to the Magnuson-Stevens Fishery Conservation and Management Act (Magnuson-Stevens Act).

Sectors are a management tool in the NE groundfish fishery. A sector consists of three or more limited access NE multispecies vessel permits, with distinct ownership, who voluntarily enter into a contract to manage their fishing operations and to share liability. A sector is granted an annual allocation of most stocks of fish managed by the NE Multispecies FMP. In return for increased operational flexibility, such as exemptions from certain effort controls and the ability to pool and trade quota, sectors have additional reporting and monitoring requirements. The sector reporting and monitoring requirements, as established by Amendment 16 and revised by subsequent framework adjustments to the NE Multispecies FMP, are contained within this information collection.

This revision incorporates a number of recent changes. Amendment 16 required sectors to develop and fund an independent third-party at-sea monitoring (ASM) program. Amendment 16 allowed sectors to use electronic monitoring (EM) instead of human monitors to meet ASM requirements, provided that the Greater Atlantic Regional Administrator deemed it sufficient. Using the authority and process granted to the agency in Amendment 16, NMFS announced its determination that sectors may use EM to meet monitoring requirements (86 FR 16686; March 31, 2021). To implement this change, we are proposing to collect additional data elements necessary to support an electronic monitoring program. Specifically, we propose to require the development and submission of vessel monitoring plans and trip-level feedback reports, both of which are critical for accurate catch data and management of ACLs. We also propose to require the collection of information related to the purchase and installation of EM equipment. This is necessary for NMFS to reimburse industry's ASM costs as directed and funded by Congressional appropriations.

In 2020, the Northwest Atlantic Fisheries Organization (NAFO) established a new requirement that vessels fishing in the NAFO Regulatory Area must submit daily catch reports via a vessel monitoring system (VMS) and NMFS implemented this requirement to ensure compliance with NAFO reporting requirements. Daily VMS catch reports allow for near real-time quota monitoring and are necessary for the management of ACLs.

II. Method of Collection

Respondents must submit either paper forms via postal service, or electronic forms submitted via the internet or a vessels' VMS.

III. Data

OMB Control Number: 0648-0605.

Form Number(s): None.

Type of Review: Regular submission (revision and extension of a current information collection).

Affected Public: Business or other for-profit organizations.

Estimated Number of Respondents: 1,309.

Estimated Time per Response: Sector operations plan and membership list updates, 110 hours; Monitoring service provider initial application, 10 hours; Monitoring service provider response to application disapproval, 10 hours; Data entry for sector discard monitoring system, 3 minutes; Sector weekly catch report, 4 hours; Sector annual report, 10 hours; Notification of expulsion from a sector, 30 minutes; Request to transfer Annual Catch Entitlement (ACE), 5 minutes; Request to lease days-at-sea (DAS), 5 minutes; request to downgrade DAS baseline, 5 minutes; VMS area and DAS declaration, 5 minutes; VMS trip-level catch report; VMS daily catch reports when fishing in multiple broad stock areas, 15 minutes; Daily VMS catch reports when fishing in the U.S./Canada Management Area and Closed Area II Special Access Programs (SAP), 15 minutes; Daily VMS catch reports when fishing in the Regular B DAS Program, 15 minutes; Pre-trip hail report, 2 minutes; Trip-end hail report, 15 minutes; Pre-Trip Notification System notification, 2 minutes; Vessel notification of selection for ASM coverage, 5 minutes; at-sea monitor deployment report, 10 minutes; ASM and EM service provider catch report to NMFS upon request, 5 minutes; at-sea monitor or electronic monitoring staff report of harassment, safety concerns, and other issues, 30 minutes; at-sea and EM service provider contracts upon request, 30 minutes; ASM and EM service provider information materials upon request, 30 minutes; EM vessel monitoring plan development and submission, 2 hours; EM vessel feedback letters, 30 minutes; EM equipment installation, 16 hours; EM equipment purchase and installation reimbursement form, 30 minutes; Office of Law Enforcement debriefing of at-sea monitors and electronic monitoring staff, 2 hours; ASM Database and Data Entry Requirements, 0 minutes; DAS Transfer Program, 5minutes; Submission of Proposed SAPs, 20 hours; NAFO Reporting Requirements, 23 hours.

Estimated Total Annual Burden Hours: 73,198.

Estimated Total Annual Cost to Public: $10,632,454 in recordkeeping and reporting costs.

Respondent's Obligation: Mandatory.

Legal Authority: Magnuson-Stevens Fishery Conservation and Management Act.

IV. Request for Comments

We are soliciting public comments to permit the NMFS to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-27398 Filed 12-16-21; 8:45 am]

BILLING CODE 3510-22-P